DEPARTMENT OF TRANSPORTATION

Federal Aviation Administration

14 CFR Part 39

[Docket No. 2001-SW-33-AD]

RIN 2120-AA64

Airworthiness Directives; Eurocopter France Model SA-365N, SA-365N1, AS-365N2, AS 365 N3, SA-366G1 Helicopters

AGENCY: Federal Aviation Administration, DOT.

ACTION: Notice of proposed rulemaking (NPRM).

SUMMARY: This document proposes adopting a new airworthiness directive (AD) for Eurocopter France (ECF) Model SA-365N, SA-365N1, AS-365N2, AS 365 N3, and SA-366G1 helicopters. This proposal would require inspecting the 9-degree frame flange (frame) for the correct edge distance of the four attachment holes for the stretcher support and for a crack and repairing the frame if necessary. This proposal is prompted by a quality control check that revealed some stretcher attachment holes were improperly located on the frame where there was insufficient edge distance. The actions specified by this proposed AD are intended to prevent failure of the frame due to a crack at the stretcher support attachment holes, loss of a passenger door, damage to the rotor system, and subsequent loss of control of the helicopter.

DATES: Comments must be received on or before February 18, 2003.

ADDRESSES: Submit comments in triplicate to the Federal Aviation Administration (FAA), Office of the Regional Counsel, Southwest Region, Attention: Rules Docket No. 2001-SW-33-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-33-AD.” The postcard will be date stamped and returned to the commenter.

Availability of NPRMs

Any person may obtain a copy of this NPRM by submitting a request to the FAA, Office of the Regional Counsel, Southwest Region, Attention: Rules Docket No. 2001-SW-33-AD, 2601 Meacham Blvd., Room 663, Fort Worth, Texas 76137.

Discussion

The Direction Generale De L'Aviation Civile (DGAC), the airworthiness authority for France, notified the FAA that an unsafe condition may exist on ECF Model SA-365N, SA-365N1, AS-365N2, AS 365 N3, and SA-366G1 helicopters. The DGAC advises of the discovery of insufficient edge distance on the left-hand side frame of some stretcher attachment holes improperly located during manufacture. This condition, if not corrected, could lead to failure of the frame, loss of a passenger door, damage to the rotor system, and subsequent loss of control of the helicopter.

ECF has issued AS 365 Alert Service Bulletin (ASB) No. 53.00.43, dated January 31, 2001, for the Model AS and SA 365 helicopters and AS 366 Alert Service Bulletin 53.06, dated June 1, 2001, for the Model SA-366G1 helicopters. The ASB's specify measuring the edge distance on the frame of the four attachment holes of the stretcher support, inspecting for a crack, installing a repair on the frame or stop-drilling the crack, and monitoring the crack for continued growth. The DGAC classified these service bulletins as mandatory and issued AD No. 2001-061-053(A), dated February 21, 2001, for the SA-365N, SA-365N1, AS-365N2, AS 365 N3 helicopters and AD No. 2001-283-025(A), dated July 11, 2001, for the SA-336G1 helicopters to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that are certificated for operation in the United States.

This unsafe condition is likely to exist or develop on other ECF model helicopters of the same type designs registered in the United States. Therefore, the proposed AD would require, within 50 hours time-in-service, inspecting the frame for the correct edge distance of the four attachment holes of the stretcher support and for a crack and repairing the frame if necessary. The repair must be approved by the Manager, FAA, Rotorcraft Standards Staff. The actions would be required to be accomplished in accordance with the service bulletins described previously.

The FAA estimates that 45 helicopters of U.S. registry would be affected by this proposed AD, that it would take approximately 2 work hours to visually inspect each helicopter and 10 work hours to repair an estimated 10 helicopters to correct edge distance only and 12 work hours to repair edge distance and cracks for an estimated 5 helicopters, and that the average labor rate is $60 per work hour. Required parts would cost approximately $200 per helicopter for the repair of the 15 helicopters. Based on these figures, the total cost impact of the proposed AD on U.S. operators is estimated to be $18,000.

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2001-SW-33-AD.

Applicability: Model SA-365N, SA-365N1, AS-365N2, AS 365 N3, and SA-366G1 helicopters.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent failure of the frame due to a crack at the stretcher support attachment holes, loss of a passenger door, damage to the rotor system, and subsequent loss of control of the helicopter, accomplish the following:

(a) Within 50 hours time-in-service, inspect each 9-degree frame flange (frame) by measuring the edge distance at the four attachment holes of the stretcher support at Z2321 as shown in detail “A” of Figure 1 in Eurocopter France AS 365 Alert Service Bulletin 53.00.43, dated January 31, 2001, for the Models SA-365N, SA-365N1, AS-365N2, and AS 365 N3 (365 ASB) or Eurocopter France AS 366 Alert Service Bulletin 53.06, dated June 1, 2001, for the Model SA366G-1 (366 ASB) helicopters. Inspect the area around the attachment holes for a crack.

(1) If the edge distance of all attachment holes is equal to or more than 5 mm (0.197 inch) and no crack is present, no further action is required by this AD.

(2) If the edge distance is less than 5 mm and no crack is present, before further flight, install a reinforcing angle in accordance with the Accomplishment Instructions paragraphs 2.B.2. of the 365 ASB or 366 ASB, as appropriate. Accomplishing the requirements of paragraphs 2.B.2. of the 365 ASB or 366 ASB constitutes terminating action for the requirements of this AD.

(3) If the frame is cracked, before further flight, repair the frame with a repair design approved by the Manager, FAA, Rotorcraft Standards Staff. Repairing the frame constitutes terminating action for the requirements of this AD.

Note 2: There is not a specific repair designed for a cracked frame. The ASB advises contacting the manufacturer for a customized repair design.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(c) Special flight permits may be issued in accordance with 14 CFR 21.197 and 21.199 to operate the helicopter to a location where the requirements of this AD can be accomplished.

Note 4: The subject of this AD is addressed in Direction Generale De L'Aviation Civile (France) AD Nos. 2001-283-025(A), dated July 11, 2001, for the Model SA366 helicopters and 2001-061-053(A), dated February 21, 2001, for the Model AS and SA-365N helicopters.

Issued in Fort Worth, Texas, on December 9, 2002.
David A. Downey,
Manager, Rotorcraft Directorate, Aircraft Certification Service.

[FR Doc. 02-31830 Filed 12-17-02; 8:45 am]

BILLING CODE 4910-13-P